DEPARTMENT OF THE INTERIOR

Bureau of Land Management

[LLES956000-L14200000-BJ0000]

Eastern States: Filing of Plats of Survey

AGENCY: Bureau of Land Management, Interior.

ACTION: Notice of Filing of Plats of Survey; Arkansas and Illinois.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: The survey in the State of Arkansas was requested by the U.S. Forest Service. The survey in the State of Illinois was requested by the U.S. Army Corps of Engineers.

The lands surveyed are:

Fifth Principal Meridian, Arkansas

T. 13 N., R. 25 W.

The plat of survey represents the dependent resurvey of portions of the south boundary (Standard Parallel North), Township 14 North, Range 25 West; east boundary, Township 13 North, Range 26 West, east boundary, a portion of the south boundary, a portion of the subdivisional lines, the subdivision of certain sections, the survey of certain Forest Service tracts, and exceptions to certain Forest Service tracts of Township 13 North, Range 25 West, of the Fifth Principal Meridian, in the State of Arkansas, and was accepted September 28, 2009.

Fourth Principal Meridian, Illinois

T. 6 S., R 6 W.

The plat of survey represents the dependent resurvey of the fractional township boundary, the subdivisional lines, and the resurvey of the lock and dam no. 24 acquisition boundary, of Township 6 South, Range 6 West, of the Fourth Principal Meridian, in the State of Illinois, and was accepted September 29, 2009.

We will place copies of the plats we described in the open files. They will be available to the public as a matter of information.

If BLM receives a protest against a survey, as shown on the plat, prior to the date of the official filing, we will stay the filing pending our consideration of the protest.

We will not officially file a plat until the day after we have accepted or dismissed all protests and they have become final, including decisions on appeals.

Dated: January 19, 2010.
Dominica Van Koten,
Chief Cadastral Surveyor.

[FR Doc. 2010-1584 Filed 1-26-10; 8:45 am]

BILLING CODE 4310-GJ-P